DEPARTMENT OF ENERGY

Federal Energy Regulatory Commission

[Project No. 2911-039]

Southeast Alaska Power Agency; Notice of Availability of Environmental Assessment

In accordance with the National Environmental Policy Act of 1969 and the Federal Energy Regulatory Commission's (Commission) regulations, 18 Code of Federal Regulations Part 380, Commission staff has reviewed the Southeast Alaska Power Agency's application for amendment of license for the Swan Lake Hydroelectric Project (FERC Project No. 2911) and has prepared an environmental assessment (EA). The project is located on Falls Creek on Revillagigedo Island near Ketchikan, Alaska. The project occupies federal lands administered by the U.S. Forest Service within the Tongass National Forest.

The EA contains Commission staff's analysis of the potential environmental effects of adding spillway gates to the project dam, raising the maximum elevation of the project impoundment by 15 feet, inundating an additional 93 acres, and making structural modifications to the dam and intake structure. The EA concludes that authorizing the amendment, with appropriate environmental protective measures, would not constitute a major federal action that would significantly affect the quality of the human environment.

A copy of the EA is available for review at the Commission in the Public Reference Room, or it may be viewed on the Commission's Web site at http://www.ferc.gov using the e-Library link. Enter the docket number (P-2911) in the docket number field to access the document. For assistance, contact FERC Online Support at FERCOnlineSupport@ferc.gov or call toll-free at 1-866-208-3676 or (202) 502-8659 (for TTY).

You may also register online at http://www.ferc.gov/docs-filing/esubsription.asp to be notified via email of new filings and issuances related to this or other pending projects. For assistance, contact FERC Online Support.

All comments must be filed within 30 days of the date of this notice and should reference project no. 2911. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

For further information, contact Steven Sachs by telephone at 202-502-8666 or by email at Steven.Sachs@ferc.gov.

Dated: May 18, 2015.
Kimberly D. Bose,
Secretary.

[FR Doc. 2015-12468 Filed 5-21-15; 8:45 am]

BILLING CODE 6717-01-P